DEPARTMENT OF DEFENSE

Department of the Navy

Notice of Public Meetings for the Draft Environmental Impact Statement and Draft Clean Air Act General Conformity Determination for U.S. Navy F-35C West Coast Homebasing

AGENCY: Department of the Navy, DoD.

ACTION: Notice.

SUMMARY: Pursuant to section 102(2)(c) of the National Environmental Policy Act of 1969 and regulations implemented by the Council on Environmental Quality (40 Code of Federal Regulations (CFR) parts 1500-1508), the Department of the Navy (DoN) has prepared and filed with the U.S. Environmental Protection Agency (USEPA) a Draft Environmental Impact Statement (EIS). The Draft EIS evaluates the potential environmental effects that may result from homebasing the U.S. Navy F-35C (Joint Strike Fighter) aircraft at either Naval Air Facility (NAF) El Centro, California or Naval Air Station (NAS) Lemoore, California.

In addition, pursuant to the USEPA's Clean Air Act (CAA) General Conformity Regulations (40 CFR part 93, subpart B), the DoN has prepared a Draft CAA General Conformity Determination, which is included in the Draft EIS, to address air emission impacts associated with proposed F-35C homebasing.

With the filing of the Draft EIS (including the Draft CAA General Conformity Determination), the DoN is initiating a 60-day public comment period beginning on February 15, 2013 and ending on April 22, 2013. During this period, the DoN will conduct two public meetings to receive oral and written comments on the Draft EIS and Draft CAA General Conformity Determination. This notice announces the dates, times, and locations of the public meetings and provides supplementary information about the environmental planning effort.

DATES: Public information and comment meetings will be held by the DoN to provide individuals with information on the Draft EIS and Draft CAA General Conformity Determination in an open house format. DoN representatives will be available at informational poster stations during the public meetings to clarify information related to the Draft EIS. The public meetings will be held between 5:00 p.m. and 8:00 p.m. at each of the locations and dates listed below:

1. Tuesday, March 19, 2013 at Lemoore Civic Auditorium, 435 C Street, Lemoore, California 93245.

2. Thursday, March 21, 2013 at Southwest High School, Multipurpose Room, 2001 Ocotillo Drive, El Centro, California 92243.

Federal, state, and local agencies and officials, and interested groups and individuals are encouraged to provide comments in person at the public meetings or in writing anytime during the public comment period. At the public meetings, attendees will be able to submit comments in writing and orally to a stenographer who will listen to and transcribe comments. All statements submitted during the public review period, whether oral or written, will be given equal consideration, become part of the public record on the Draft EIS, and be responded to in the Final EIS. Comments received on the Draft General Conformity Determination during the 60-day public comment period will be considered fully before the DoN makes a Final General Conformity Determination. Written comments may be submitted via the U.S. Postal Service or electronically as described below.

ADDRESSES: A copy of the Draft EIS for U.S. Navy F-35C West Coast Homebasing (with the Draft CAA General Conformity Determination) is available for electronic viewing or download at www.navyf35cwestcoasteis.com. Comments on the Draft EIS and Draft CAA General Conformity Determination can be submitted electronically via the project Web site or in writing to: Naval Facilities Engineering Command, Southwest, Attn: Code EV21.AK (F-35C EIS Project Manager), 1220 Pacific Highway, Building 1, 5th Floor, San Diego, CA 92132. All written comments must be postmarked or received online by April 22, 2013 to ensure they become part of the official record.

A paper copy of the Executive Summary or a single compact disc of the Draft EIS with the Draft CAA General Conformity Determination will be made available upon written request to the address above.

FOR FURTHER INFORMATION CONTACT: Naval Facilities Engineering Command, Southwest, Attn: Code EV21.AK (F-35C EIS Project Manager), 1220 Pacific Highway, Building 1, 5th Floor, San Diego, CA 92132.

SUPPLEMENTARY INFORMATION: A Notice of Intent to prepare this Draft EIS was published in the Federal Register on January 28, 2011 (76 FR 5144). The DoN proposes to provide facilities and functions on the West Coast of the United States to support homebasing F-35C aircraft in the U.S. Navy Pacific Fleet. The purpose of the proposed action is to replace aging DoN Pacific Fleet FA-18 aircraft with F-35C aircraft while meeting pilot training and readiness requirements.

The Draft EIS evaluates the potential environmental effects of three alternatives, including the No Action Alternative and two action alternatives. Alternative 1 analyzes F-35C homebasing at NAF El Centro. Alternative 2 analyzes F-35C homebasing at NAS Lemoore. The analysis addresses aircraft replacement and transition, facility and infrastructure requirements, personnel requirements, and aircraft operations in the airfield environment and in airspace within the vicinity of each installation.

Significant adverse impacts are identified for noise, land use, socioeconomics, and ground traffic and transportation with implementation of Alternative 1, Homebasing the F-35C at NAF El Centro. No significant impacts are identified for any resource area with implementation of Alternative 2, Homebasing the F-35C at NAS Lemoore. No mitigation measures were identified during the development of the Draft EIS.

While no basing decision has been made, Alternative 2, Homebasing the F-35C at NAS Lemoore, is the DoN's preferred home basing alternative because it would best meet mission requirements, would have fewer environmental effects, and would cost less.

The DoN F-35C West Coast Homebasing Draft EIS with the Draft CAA General Conformity Determination was distributed to federal, state, and local agencies, elected officials, and other interested individuals and organizations. Copies of the Draft EIS with the Draft CAA General Conformity Determination are available for public review at the following libraries:

1. City of El Centro Public Library, 1140 North Imperial Avenue, El Centro, California 92243.

2. City of Imperial Public Library, 200 West 9th Street, Imperial, California 92251.

3. Imperial County Free Library, Holtville Branch, 101 East 6th Street, Holtville, California 92250.

4. Imperial County Free Library, Heber Branch, 1078 Dogwood Road, Heber, California 92257.

5. Imperial County Free Library, Seeley Library Services provided at the Seeley Community Church, 1774 West Rio Vista Street, Seeley, California 92243.

6. Kings County Library, Lemoore Branch, 457 C Street, Lemoore, California 93245.

7. Kings County Library, Hanford Branch, 401 North Douty Street, Hanford, California 93230.

8. Fresno County Public Library, Central Library, 2420 Mariposa Street, Fresno, California 93721.

9. Fresno County Public Library, Riverdale Branch Library, 20975 Malsbary Avenue, Riverdale, California 93656.

10. West Hills College Lemoore Library, 555 College Avenue, Lemoore, California 93245.

Dated: February 13, 2013.
C. K. Chiappetta,
Lieutenant Commander, Office of the Judge Advocate General, U.S. Navy, Federal Register Liaison Officer.

[FR Doc. 2013-04702 Filed 2-27-13; 8:45 am]

BILLING CODE 3810-FF-P